DEPARTMENT OF THE INTERIOR

National Park Service

Notice of Availability

AGENCY: National Park Service, Interior.

SUMMARY: National Park Service (NPS) has prepared a Final Environmental Impact Statement (EIS) for Saratoga National Historical Park General Management Plan, which is now available from the NPS.

ADDRESSES: Requests for copies should be sent to Superintendent, Saratoga National Historical Park, 648 Route 32, Stillwater, New York 12170-1604.

FOR FURTHER INFORMATION CONTACT: Superintendent at (518) 664-9821.

SUPPLEMENTARY INFORMATION: The NPS prepared a Draft General Management Plan (GMP)/Draft EIS for Saratoga National Historical Park, New York, pursuant to section 102(c) of the National Environmental Policy Act of 1969. The draft was made available for public review for 60 days (January-March 2004) during which time the NPS distributed 2000 summaries of the draft plan and over 60 full versions of the draft. Both the summary and the full version were made available on the Web and at area libraries. A total of 32 comments were received and some 45 participants attended an open house. The consensus of the public comment period was that NPS is pursuing the correct path for the park in Alternative D, the preferred alternative. Comments from individuals and public agencies did not require NPS to add other alternatives, significantly alter existing alternatives, or make changes to the impact analysis of the effects of any alternative. Thus, an abbreviated format is used for the responses to comments in the Final EIS, in compliance with the 1978 implementing regulations (40 CFR 1503.4[c]) for the National Environmental Policy Act.

DATES: The Final EIS will be made available for a 30-day period, from August 2-September 2, 2004.

Dated: June 4, 2004.
Robert W. McIntosh,
Associate Regional Director, Planning & Partnerships, Northeast Region.

[FR Doc. 04-17252 Filed 7-28-04; 8:45 am]

BILLING CODE 4312-HY-P